DEPARTMENT OF HOMELAND SECURITY

Transportation Security Administration

Intent To Request Renewal From OMB of One Current Public Collection of Information: Pipeline Operator Security Information

Correction

Notice document 2016-01174, beginning on page 3448 in the issue of Thursday, January 21, 2016, was inadvertently published and is withdrawn from that issue.

[FR Doc. C1-2016-01174 Filed 3-17-16; 8:45 am]

BILLING CODE 1505-01-D